FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 13, 2000.

A. Federal Reserve Bank of Richmond (A. Linwood Gill, III, Vice President) 701 East Byrd Street, Richmond, Virginia 23261-4528:

1. James L. Pitrolo, Jr., John B. Pitrolo, Janice M. Cota, and Joyce E. Keefover; all of Mannington, West Virginia; to acquire additional voting shares of Heritage Bancshares, Inc., Mannington, West Virginia, and thereby indirectly acquire additional voting shares of First Exchange Bank, Mannington, West Virginia.

Board of Governors of the Federal Reserve System, October 24, 2000.
Robert deV. Frierson,
Associate Secretary of the Board.

[FR Doc. 00-27676 Filed 10-26-00; 8:45 am]

BILLING CODE 6210-01-P